DEPARTMENT OF HOMELAND SECURITY

Cooperative Research and Development Agreement (CRADA) Opportunity With the Department of Homeland Security for the Development of a Foot-and-Mouth Disease 3ABC ELISA Diagnostic Kit; Correction

AGENCY: Science and Technology Directorate, Plum Island Animal Disease Center, Department of Homeland Security.

ACTION: Notice of intent; correction.

SUMMARY: The Department of Homeland Security Science and Technology Directorate (DHS S&T), through its Plum Island Animal Disease Center (PIADC), published a document in the Federal Register of May 16, 2013, seeking industry collaborators to aid DHS S&T in developing and validating an ELISA diagnostic kit for detection of Foot and Mouth Disease Virus (FMDV) non-structural proteins. The document did not specify dates for when the submission of proposals are due.

FOR FURTHER INFORMATION CONTACT: Angela Ervin, 202-254-5624.

Correction

In the Federal Register of May 16, 2013, in FR Doc. DHS-2013-0036, on page 1, in the third column, correct the DATES caption to read:

DATES: Submit proposals on or before August 8, 2013.

Correction

In the Federal Register of May 16, 2013, in FR Doc. DHS-2013-0036, on page 1, in the third column, correct the ADDRESSES caption to read:

ADDRESSES: Mail comments and requests to participate to Dr. Angela Ervin, (ATTN: Angela Ervin, 245 Murray Lane SW., Washington, DC 20528-0075). Submit electronic proposals, along with comments and other data to Angela.Ervin@hg.dhs.gov on or before August 8, 2013.

Dated: July 8, 2013.
James Johnson,
Director, Office of National Laboratories.

[FR Doc. 2013-16952 Filed 7-15-13; 8:45 am]

BILLING CODE 9910-9F-P